DEPARTMENT OF TRANSPORTATION

Federal Aviation Administration

14 CFR Part 39

[Docket No. FAA-2024-2541; Project Identifier MCAI-2023-00006-R; Amendment 39-22977; AD 2025-05-05]

RIN 2120-AA64

Airworthiness Directives; Airbus Helicopters

AGENCY: Federal Aviation Administration (FAA), DOT.

ACTION: Final rule.

SUMMARY: The FAA is adopting a new airworthiness directive (AD) for certain Airbus Helicopters Model SA341G and SA342J helicopters. This AD was prompted by a report of a pilot collective pitch stick handle grip that broke when pulled. This AD requires replacing certain pilot collective pitch stick handle grips and prohibits installing those pilot collective pitch stick handle grips. These actions are specified in a European Union Aviation Safety Agency (EASA) AD, which is incorporated by reference. The FAA is issuing this AD to address the unsafe condition on these products.

DATES: This AD is effective May 12, 2025.

The Director of the Federal Register approved the incorporation by reference of a certain publication listed in this AD as of May 12, 2025.

ADDRESSES:

AD Docket: You may examine the AD docket at regulations.gov under Docket No. FAA-2024-2541; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For EASA material identified in this AD, contact EASA, Konrad-Adenauer-Ufer 3, 50668 Cologne, Germany; phone: +49 221 8999 000; email: ADs@easa.europa.eu; website: easa.europa.eu. You may find the EASA material on the EASA website at ad.easa.europa.eu.

• You may view this material at the FAA, Office of the Regional Counsel, Southwest Region, 10101 Hillwood Pkwy., Room 6N-321, Fort Worth, TX 76177. For information on the availability of this material at the FAA, call (817) 222-5110. It is also available at regulations.gov under Docket No. FAA-2024-2541.

FOR FURTHER INFORMATION CONTACT: Hye Yoon Jang, Aviation Safety Engineer, FAA, 1600 Stewart Avenue, Suite 410, Westbury, NY 11590; phone: (206) 231-3758; email: Hye.Yoon.Jang@faa.gov.

SUPPLEMENTARY INFORMATION:

Background

The FAA issued a notice of proposed rulemaking (NPRM) to amend 14 CFR part 39 by adding an AD that would apply to certain Airbus Helicopters Model SA341G and SA342J. The NPRM published in the Federal Register on November 29, 2024 (89 FR 94626). The NPRM was prompted by EASA AD 2023-0002, dated January 5, 2023, issued by EASA, which is the Technical Agent for the Member States of the European Union (EASA AD 2023-0002) (also referred to as the MCAI). The MCAI states that a pilot collective pitch stick handle grip broke into two pieces when a maintenance technician pulled the handle grip during helicopter maintenance. According to the MCAI, following investigation and analysis, the handle grip material (Rilsan) is sensitive to aging, with consequent degradation of the structural strength of the handle grip.

In the NPRM, the FAA proposed to require replacing certain pilot collective pitch stick handle grips and prohibit installing those pilot collective pitch stick handle grips. The FAA is issuing this AD to address the unsafe condition on these products.

Discussion of Final Airworthiness Directive

Comments

The FAA received no comments on the NPRM or on the determination of the costs.

Conclusion

These products have been approved by the aviation authority of another country and are approved for operation in the United States. Pursuant to the FAA's bilateral agreement with this State of Design Authority, it has notified the FAA of the unsafe condition described in the MCAI referenced above. The FAA reviewed the relevant data and determined that air safety requires adopting this AD as proposed. Accordingly, the FAA is issuing this AD to address the unsafe condition on these products. Except for minor editorial changes, this AD is adopted as proposed in the NPRM.

Material Incorporated by Reference Under 1 CFR Part 51

EASA AD 2023-0002 requires replacing handle grips P/N 41A27-1377-00 installed on pilot collective pitch sticks before June 15, 2022, and replacing certain part-numbered pilot collective pitch sticks complete with a handle grip. EASA AD 2023-0002 also prohibits installing the affected handle grips and pilot collective pitch sticks equipped with an affected handle grip on any helicopter.

This material is reasonably available because the interested parties have access to it through their normal course of business or by the means identified in the ADDRESSES section.

Differences Between This AD and the MCAI

The MCAI requires using Airbus Helicopters ASB SA341 67.06 and ASB SA342 67.06 (co-published as one document and referred to as ASB No. “GAZ-67.06”), Revision 0, dated June 15, 2022, for compliance, and allows using future revisions of that material, whereas this AD instead requires using Airbus Helicopters ASB No. GAZ-67.06, Revision 1, dated November 2, 2022, and allows using future revisions of that material as specified in the Ref. Publications section of EASA AD 2023-0002, which is incorporated by reference.

Costs of Compliance

The FAA estimates that this AD affects 16 helicopters of U.S. registry.

Replacing the collective pitch handle grip takes 4 work-hours and parts cost $230 for an estimated cost of $570 per helicopter and $9,120 for the U.S. fleet.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(f), 40113, 44701.

§ 39.13 [Amended]

2. The FAA amends § 39.13 by adding the following new airworthiness directive:

2025-05-05 Airbus Helicopters: Amendment 39-22977; Docket No. FAA-2024-2541; Project Identifier MCAI-2023-00006-R.

(a) Effective Date

This airworthiness directive (AD) is effective May 12, 2025.

(b) Affected ADs

None.

(c) Applicability

This AD applies to Airbus Helicopters Model SA341G and SA342J helicopters, certificated in any category, as identified in European Union Aviation Safety Agency AD 2023-0002, dated January 5, 2023 (EASA AD 2023-0002).

(d) Subject

Joint Aircraft System Component (JASC) Code: 2077, Flight Control System.

(e) Unsafe Condition

This AD was prompted by a report of a pilot collective pitch stick handle grip that broke into two pieces when a maintenance technician pulled the handle grip during helicopter maintenance. The FAA is issuing this AD to prevent failure of the pilot collective pitch stick handle grip. The unsafe condition, if not addressed, could result in reduced integrity of the flight control system and subsequent loss of control of the helicopter.

(f) Compliance

Comply with this AD within the compliance times specified, unless already done.

(g) Requirements

Except as specified in paragraphs (h) and (i) of this AD: Comply with all required actions and compliance times specified in, and in accordance with, EASA AD 2023-0002.

(h) Exceptions to EASA AD 2023-0002

(1) Where EASA AD 2023-0002 defines “the ASB” as “AH Alert Service Bulletin (ASB) SA341 67.06 and ASB SA342 67.06 (published as a single document, also ref. No. ASB GAZ-67.06),” this AD requires replacing that text with “Airbus Helicopters Alert Service Bulletin No. GAZ-67.06, Revision 1, dated November 2, 2022.”

(2) Where EASA AD 2023-0002 refers to its effective date, this AD requires using the effective date of this AD.

(3) Where the material referenced in EASA AD 2023-0002 specifies discarding certain parts, this AD requires removing those parts from service.

(4) This AD does not adopt the “Remarks” section of EASA AD 2023-0002.

(i) No Reporting Requirement

Although the material referenced in EASA AD 2023-0002 specifies to submit certain information to the manufacturer, this AD does not require that action.

(j) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (k) of this AD. Information may be emailed to: 9-AVS-AIR-730-AMOC@faa.gov.

(2) Before using any approved AMOC, notify your appropriate principal inspector, or lacking a principal inspector, the manager of the local Flight Standards District Office/certificate holding district office.

(k) Related Information

For more information about this AD, contact Hye Yoon Jang, Aviation Safety Engineer, FAA, 1600 Stewart Avenue, Suite 410, Westbury, NY 11590; phone: (206) 231-3758; email: Hye.Yoon.Jang@faa.gov.

(l) Material Incorporated by Reference

(1) The Director of the Federal Register approved the incorporation by reference of the material listed in this paragraph under 5 U.S.C. 552(a) and 1 CFR part 51.

(2) You must use this material as applicable to do the actions required by this AD, unless the AD specifies otherwise.

(i) European Union Aviation Safety Agency (EASA) AD 2023-0002, dated January 5, 2023.

(ii) [Reserved]

(3) For EASA material identified in this AD, contact EASA, Konrad-Adenauer-Ufer 3, 50668 Cologne, Germany; phone: +49 221 8999 000; email: ADs@easa.europa.eu; website: easa.europa.eu. You may find the EASA material on the EASA website at ad.easa.europa.eu.

(4) You may view this material at the FAA, Office of the Regional Counsel, Southwest Region, 10101 Hillwood Pkwy., Room 6N-321, Fort Worth, TX 76177. For information on the availability of this material at the FAA, call (817) 222 5110.

(5) You may view this material at the National Archives and Records Administration (NARA). For information on the availability of this material at NARA, visit www.archives.gov/federal-register/cfr/ibr-locations or email fr.inspection@nara.gov.

Issued on February 26, 2025.
Victor Wicklund,
Deputy Director, Compliance & Airworthiness Division, Aircraft Certification Service.

[FR Doc. 2025-05776 Filed 4-4-25; 8:45 am]

BILLING CODE 4910-13-P